DEPARTMENT OF ENERGY

Federal Energy Regulatory Commission

Combined Notice of Filings

Take notice that the Commission has received the following Natural Gas Pipeline Rate and Refund Report filings:

Filings Instituting Proceedings

Docket Numbers: RP16-620-000.

Applicants: Transcontinental Gas Pipe Line Company,

Description: Transcontinental Gas Pipe Line Company, LLC submits a request for waiver of the Commission's capacity release regulations to allow a transaction to occur under RP16-620.

Filed Date: 2/22/16.

Accession Number: 20160222-5161.

Comments Due: 5 p.m. ET 3/7/16.

Docket Numbers: RP16-621-000.

Applicants: PGPipeline LLC.

Description: Section 4(d) Rate Filing: Annual FRP Filing to be effective 4/1/2016.

Filed Date: 2/22/16.

Accession Number: 20160222-5182.

Comments Due: 5 p.m. ET 3/7/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-1322-002.

Applicants: Sabine Pipe Line LLC.

Description: Compliance filing Sabine Complilance Filing February 22, 2016 to be effective 2/5/2016.

Filed Date: 2/22/16.

Accession Number: 20160222-5076.

Comments Due: 5 p.m. ET 3/7/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 23, 2016.
Nathaniel J. Davis, Sr.,
Deputy Secretary.

[FR Doc. 2016-04391 Filed 2-29-16; 8:45 am]

BILLING CODE 6717-01-P